ENVIRONMENTAL PROTECTION AGENCY

[FRL-8271-1]

Proposed CERCLA Administrative Order on Consent for the Bountiful 5 Points PCE Plume Site, Bountiful, Davis County, UT

AGENCY: Environmental Protection Agency (EPA).

ACTION: Notice and request for public comment.

SUMMARY: In accordance with the requirements of section 122(i) of the Comprehensive Environmental Response, Compensation, and Liability Act, as amended (“CERCLA”), 42 U.S.C. 9622(I), notice is hereby given of a proposed Administrative Order on Consent (“AOC”) settlement under sections 104, 106(a), 107, and 122 of CERCLA, 42 U.S.C. 9604, 9606(a), 9607, and 9622, between EPA and Your Valet Cleaners, Inc. (“Respondent”) regarding Your Valet Cleaners' facility (the “Facility”). The property which is the subject of this proposed AOC is a parcel of land approximately ⅛ acre in size and is located at 1501 South Main Street in Bountiful, Davis County, Utah, defined by EPA as the Bountiful 5 Points PCE Plume Site (“Site”). This AOC settlement proposes to compromise a claim the United States has at this Site for Past and Future Response Costs, as those terms are defined in the AOC. Respondent is the owner of a parcel of land which has been impacted by business operations at the Facility and which lies within the defined boundaries of the Site. Under the terms of the proposed AOC, Your Valet Cleaners, Inc. agrees to immediately pay $10,000 to EPA in settlement of its liability for Past Response Costs incurred at the Site, use best efforts to recover (under relevant insurance policies) funds to reimburse additional Past Response Costs of $46,031.93, and to pay Future Response Costs EPA incurs in overseeing the work Respondent has agreed to perform under the AOC. In exchange, Respondent will be granted covenants not to sue under sections 106 and 107(a) of CERCLA, 42 U.S.C. 9606 and 9607(a), in regards to reimbursement of Past and Future Response Costs.

Opportunity for Comment: For thirty (30) days following the date of publication of this notice, the Agency will consider all comments received on the Payment of Response Costs portion of the Settlement only (Section XV) and may modify or withdraw its consent to that portion of the AOC, if comments received disclose facts or considerations which indicate that the settlement is inappropriate, improper, or inadequate. The Agency's response to any comments received will be available for public inspection at the EPA Superfund Record Center, 1595 Wynkoop Street, 2nd Floor, in Denver, Colorado.

DATES: Comments must be submitted on or before February 20, 2007.

ADDRESSES: The proposed settlement and additional background information relating to the settlement are available for public inspection at the EPA Superfund Records Center, 1595 Wynkoop Street, 2nd Floor, in Denver, Colorado. Comments and requests for a copy of the proposed settlement should be addressed to Carol Pokorny, Enforcement Specialist (8ENF-RC), Technical Enforcement Program, U.S. Environmental Protection Agency, 1595 Wynkoop Street, Denver, Colorado 80202-1129, and should reference the Your Valet Cleaners AOC for the Bountiful 5 Points PCE Plume Site in Bountiful, Davis County, Utah.

FOR FURTHER INFORMATION CONTACT: Carol Pokorny, Enforcement Specialist (8ENF-RC), Technical Enforcement Program, U.S. Environmental Protection Agency, 1595 Wynkoop Street, Denver, Colorado 80202-1129, (303) 312-6970.

Dated: January 10, 2007.
Eddie A. Sierra,
Acting Assistant Regional Administrator, Office of Enforcement, Compliance and Environmental Justice, Region 8.

[FR Doc. 07-202 Filed 1-18-07; 8:45 am]

BILLING CODE 6560-50-M